DEPARTMENT OF TRANSPORTATION

Federal Aviation Administration

Ninth RTCA SC-235 Non Rechargeable Lithium Batteries Plenary

AGENCY: Federal Aviation Administration (FAA), Department of Transportation (DOT).

ACTION: Ninth RTCA SC-235 Non Rechargeable Lithium Batteries Plenary.

SUMMARY: The FAA is issuing this notice to advise the public of a meeting of Ninth RTCA SC-235 Non Rechargeable Lithium Batteries Plenary.

DATES: The meeting will be held July 13, 2017, 12:00 p.m.-1:00 p.m.

ADDRESSES: The meeting will be held virtually at: https://rtca.webex.com/rtca/j.php?MTID=m9ab27f37950b7c41fb2cc743ef8b5891, Join by phone, 1-877-668-4493, Call-in toll-free number (US/Canada), 1-650-479-3208, Call-in toll number (US/Canada), Access code: 638 570 306, Meeting Password: tP6B8u5E.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Ninth RTCA SC-235 Non Rechargeable Lithium Batteries Plenary. The agenda will include the following:

Thursday, July 13, 2017, 12:00 p.m.-2:00 p.m.

1. Welcome and Administrative Remarks (Including DFO & RTCA Statement)

2. Introductions

3. Agenda Review

4. Meeting-Minutes Review

5. Final Review and Comment (FRAC) Resolution Review

6. Approval of DO-227A for Submission to RTCA PMC

7. Action Item Review

8. Any Other Business

9. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 26, 2017.
Mohannad Dawoud,
Management and Program Analyst, Partnership Contracts Branch, ANG-A17, NextGen, Procurement Services Division, Federal Aviation Administration.

[FR Doc. 2017-13606 Filed 6-28-17; 8:45 am]

BILLING CODE 4910-13-P